POSTAL RATE COMMISSION

[Order No. 1469; Docket No. A2006-1]

Post Office Closing Appeal; Pittsburgh, PA

AGENCY: Postal Rate Commission.

ACTION: Notice and order.

SUMMARY: This document informs the public that a petitioner has filed an appeal of a post office closing in Pittsburgh, PA. It notes, among other things, that several preliminary steps have been taken, such as assigning the appeal a docket number, informing the Postal Service of the appeal, and developing a procedural schedule. A decision on the merits has not yet been made.

DATES: See SUPPLEMENTARY INFORMATION for dates.

ADDRESSES: Submit comments electronically via the Commission's Filing Online system at http://www.prc.gov.

FOR FURTHER INFORMATION CONTACT: Stephen L. Sharfman, General Counsel, 202-789-6820.

SUPPLEMENTARY INFORMATION: Notice is hereby given that pursuant to 39 U.S.C. 404(b), the Commission has accepted the petitioner's appeal of the closing of the Observatory Finance Station, Pittsburgh, PA. The Commission hereby institutes a proceeding under 39 U.S.C. 404(b)(5) and designates the case as Docket No. A2006-1 to consider the petitioner's appeal.

Categories of issues apparently raised. The categories of issues that appear to be raised include: 1. Observance of procedure required by law [39 U.S.C. 404(b)(5)(B)]; 2. Effect on the community [39 U.S.C. 404(b)(2)(A)]; and 3. Effect of resulting economic savings [39 U.S.C. 404(b)(2)(A)(iii)].

After the Postal Service files the administrative record and the Commission reviews it, the Commission may find that there are more legal issues than those set forth above. Or, the Commission may find that the Postal Service's determination disposes of one or more of those issues. The deadline for the Postal Service to file the administrative record with the Commission is July 6, 2006 [39 CFR 3001.113].

Availability; Web site posting. The Commission has posted the appeal and supporting material on its Web site at http://www.prc.gov. Additional filings in this case and participants' submissions also will be posted on the Web site, if provided in electronic format or amenable to conversion, and not subject to a valid protective order. Information on how to use the Commission's Web site is available online or by contacting the Commission's webmaster via telephone at 202-789-6873 or via electronic mail at prc-webmaster@prc.gov.

The appeal and all related documents are also available for public inspection in the Commission's docket section. Docket section hours are 8 a.m. to 4:30 p.m., Monday through Friday, except on federal government holidays. Docket section personnel may be contacted via electronic mail at prc-dockets@prc.gov or via telephone at 202-789-6846.

Filing of documents. All filings of documents in this case shall be made using the Internet (Filing Online) pursuant to Commission rules 9(a) and 10(a) at the Commission's Web site http://www.prc.gov, unless a waiver is obtained [39 CFR 3001.9(a) and 10(a)]. Instructions for obtaining an account to file documents online may be found on the Commission's Web site, http://www.prc.gov, or by contacting the Commission's docket section at prc-dockets@prc.gov or via telephone at 202-789-6846.

Intervention. Those, other than the petitioner and respondent, wishing to be heard in this matter are directed to file a notice of intervention on or before July 24, 2006 in accordance with 39 CFR 3001.111. The notice of intervention shall be filed using the Internet (Filing Online) at the Commission's Web site (http://www.prc.gov), unless a waiver is obtained for hardcopy filing. Rules 9(a) and 10(a) [39 CFR 3001.9(a) and 10(a)].

Further procedures. The Postal Reorganization Act requires that the Commission issue its decision within 120 days from the date this appeal was filed [39 U.S.C. 404 (b)(5)]. A procedural schedule has been developed to accommodate this statutory deadline. In the interest of expedition, in light of the 120-day decision schedule, the Commission may request the Postal Service or other participants to submit memoranda of law on any appropriate issue. If requested, such memoranda will be due 14 days from the issuance of the request. Responses to such memoranda will be due 14 days from the date the memoranda is filed. As required by the Commission rules, if any motions are filed, responses are due 7 days after any such motion is filed [39 CFR 3001.21]. If necessary, the Commission also may ask petitioners or the Postal Service for more information.

It is ordered:

1. The Postal Service shall file the administrative record in this appeal by July 6, 2006.

2. The procedural schedule is listed below.

3. The Secretary shall arrange for publication of this notice and order and procedural schedule in the Federal Register.

Procedural Schedule

June 21, 2006: Filing of appeal.

June 28, 2006: Commission notice and order of filing of appeal.

July 6, 2006: Deadline for Postal Service to file administrative record in this appeal.

July 24, 2006: Last day of filing of petitions to intervene [see 39 CFR 3001.111(b)].

July 26, 2006: Petitioner's participant statement or initial brief [see 39 CFR 3001.115(a) and (b)].

August 15, 2006: Postal Service's answering brief [see 39 CFR 3001.115(c)].

August 30, 2006: Petitioner's reply brief should petitioner choose to file one [see 39 CFR 3001.115(d)].

September 6, 2006: Deadline for motions by any party requesting oral argument. The Commission will schedule oral argument only when it is a necessary addition to the written filings [see 39 CFR 3001.116].

October 19, 2006: Expiration of the Commission's 120-day decisional schedule [see 39 U.S.C. 404(b)(5)].

Issued June 28, 2006.
By the Commission.
Steven W. Williams,
Secretary.

[FR Doc. E6-10439 Filed 7-3-06; 8:45 am]

BILLING CODE 7710-FW-P